DEPARTMENT OF JUSTICE

Notice of Lodging of Settlement Under the Clean Air Act

Notice is hereby given that, on December 22, 2006, a proposed settlement in U.S. v. Johnson & Johnson, et al., Civil Action No. 06-6077, was lodged with the United States District Court for the District of New Jersey.

In this action the United States seeks a judgment of liability against eleven defendants and an order requiring the defendants to perform certain response actions selected by EPA as a remedial action at the Atlantic Resources Corporation Superfund Site (“ARC Site”) and the Horseshoe Road Drum Dump (“HRDD Site”) portion of the Horseshoe Road Superfund Site in Sayreville, Middlesex County, New Jersey. The United States also seeks reimbursement of EPA's past and future response costs incurred or to be incurred in connection with the two Sites. The eleven defendants (“Defendants”) and one federal potentially responsible party, the Department of Defense (“Settling Federal Agency”), are parties to the Consent Decree. Pursuant to the Consent Decree, the Defendants will perform and the Settling Federal Agency will provide its share of the funding for a Remedial Design and a Remedial Action at the ARC Site, and a Remedial Design at the HRDD Site. The Consent Decree requires the Defendants and the Settling Federal Agency to reimburse EPA its past costs incurred at the ARC Site, in the amount of $863,579.41, as well as certain of the United States' future costs incurred or to be incurred at the two Sites.

The Department of Justice will receive for a period of thirty (30) days from the date of this publication comments relating to the settlement. Comments should be addressed to the Assistant Attorney General, Environment and Natural Resources Division, P.O. Box 7611, U.S. Department of Justice, Washington, DC 20044-7611, and should refer to U.S. v. Johnson & Johnson, et al., D.J. Ref. 90-11-3-480/2.

The settlement may be examined at the Office of the United States Attorney, 970 Broad Street, Suite 700, Newark, NJ 07102, and at the Region II Office of the U.S. Environmental Protection Agency, Region II Records Center, 290 Broadway, 18th Floor, New York, NY 10007-1866. During the public comment period, the settlement may also be examined on the following Department of Justice Web site: http://www.usdoj.gov/enrd/Consent_Decrees.html. A copy of the settlement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $41.00 (25 cents per page reproduction cost) payable to the U.S. Treasury or, if by e-mail or fax, forward a check in that amount to the Consent Decree Library at the stated address.

Ronald G. Gluck,
Assistant Chief, Environmental Enforcement Section, Environment and Natural Resources Division.

[FR Doc. 07-306 Filed 1-24-07; 8:45 am]

BILLING CODE 4410-15-M